DEPARTMENT OF ENERGY

Federal Energy Regulatory Commission

Combined Notice of Filings

Take notice that the Commission has received the following Natural Gas Pipeline Rate and Refund Report filings:

Docket Numbers: RP21-324-001.

Applicants: Midship Pipeline Company, LLC.

Description: Compliance filing RP21-324 Compliance of Gulfport Amended Non-Conf/Neg Rate Agreement to be effective 5/17/2021.

Filed Date: 5/17/21.

Accession Number: 20210517-5119.

Comments Due: 5 p.m. ET 6/1/21.

Docket Numbers: RP21-827-000.

Applicants: Alliance Pipeline L.P.

Description: § 4(d) Rate Filing: Discount Conditions Tariff Filing to be effective 6/17/2021.

Filed Date: 5/17/21.

Accession Number: 20210517-5039.

Comments Due: 5 p.m. ET 6/1/21.

Docket Numbers: RP21-828-000.

Applicants: Cove Point LNG, LP.

Description: § 4(d) Rate Filing: Cove Point—Modification of Request for Service Form to be effective 6/16/2021.

Filed Date: 5/17/21.

Accession Number: 20210517-5047.

Comments Due: 5 p.m. ET 6/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2021.
Debbie-Anne A. Reese,
Deputy Secretary.

[FR Doc. 2021-10947 Filed 5-24-21; 8:45 am]

BILLING CODE 6717-01-P